DEPARTMENT OF ENERGY

Federal Energy Regulatory Commission

Notice of FERC Staff Attendance at Entergy/Cleco Teleconference on Order No. 1000

The Federal Energy Regulatory Commission (Commission) hereby gives notice that members of its staff may participate in the teleconference noted below. Their participation is part of the Commission's ongoing outreach efforts.

Entergy/Cleco Teleconference on Order No. 1000 Compliance

September 19, 2012 (2-4pm EDT)

The discussions may address matters at issue in the following proceedings:

Docket No. OA07-32, Entergy Services, Inc.

Docket No. EL00-66, Louisiana Public Service Commission v. Entergy Services, Inc.

Docket No. EL01-88, Louisiana Public Service Commission v. Entergy Services, Inc.

Docket No. EL07-52, Louisiana Public Service Commission v. Entergy Services, Inc.

Docket No. EL08-60, Ameren Services Co. v. Entergy Services, Inc.

Docket No. EL09-43, Arkansas Public Service Commission v. Entergy Services, Inc.

Docket No. EL09-50, Louisiana Public Service Commission v. Entergy Services, Inc.

Docket No. EL09-61, Louisiana Public Service Commission v. Entergy Services, Inc.

Docket No. EL10-55, Louisiana Public Service Commission v. Entergy Services, Inc.

Docket No. EL10-65, Louisiana Public Service Commission v. Entergy Services, Inc.

Docket No. EL11-34, Midwest Independent System Transmission Operator, Inc.

Docket No. EL11-63, Louisiana Public Service Commission v. Entergy Services, Inc.

Docket No. ER05-1065, Entergy Services, Inc.

Docket No. ER07-682, Entergy Services, Inc.

Docket No. ER07-956, Entergy Services, Inc.

Docket No. ER08-1056, Entergy Services, Inc.

Docket No. ER09-833, Entergy Services, Inc.

Docket No. ER09-1224, Entergy Services, Inc.

Docket No. ER10-794, Entergy Services, Inc.

Docket No. ER10-1350, Entergy Services, Inc.

Docket No. ER10-1676, Entergy Services, Inc.

Docket No. ER10-2001, Entergy Arkansas, Inc.

Docket No. ER10-3357, Entergy Arkansas, Inc.

Docket No. ER11-2131, Entergy Arkansas, Inc.

Docket No. ER11-2132, Entergy Gulf States, Louisiana, LLC

Docket No. ER11-2133, Entergy Gulf States, Louisiana, LLC

Docket No. ER11-2134, Entergy Mississippi, Inc.

Docket No. ER11-2135, Entergy New Orleans, Inc.

Docket No. ER11-2136, Entergy Texas, Inc.

Docket No. ER11-3156, Entergy Arkansas, Inc.

Docket No. ER11-3657, Entergy Arkansas, Inc.

Docket No. ER12-480, Midwest Independent Transmission System Operator, Inc.

Docket No. ER12-1378-000, Cleco Power LLC

Docket No. ER12-1379-000, Cleco Power LLC

Docket No. ER12-2390, Entergy Services, Inc.

The meeting is open to the public.

For more information, contact Peter Nagler, Office of Energy Market Regulation, Federal Energy Regulatory Commission at (202) 502-6083 or peter.nagler@ferc.gov.

Dated: September 17, 2012.
Kimberly D. Bose,
Secretary.

[FR Doc. 2012-23427 Filed 9-21-12; 8:45 am]

BILLING CODE 6717-01-P